DEPARTMENT OF DEFENSE

Office of the Secretary

[DoD-2006-OS-0196]

Base Closure and Realignment

AGENCY: Department of Defense, Office of Economic Adjustment.

ACTION: Notice.

SUMMARY: This Notice is provided pursuant to section 2905(b)(7)(B)(ii) of the Defense Base Closure and Realignment Act of 1990. It provides a partial list of military installations closing or realigning pursuant to the 2005 Defense Base Closure and Realignment (BRAC) Report. It also provides a corresponding listing of the Local Redevelopment Authorities (LRAs) recognized by the Secretary of Defense, acting through the Department of Defense Office of Economic Adjustment (OEA), as well as the points of contact, addresses, and telephone numbers for the LRAs for those installations. Representatives of State and local governments, homeless providers, and other parties interested in the redevelopment of an installation should contact the person or organization listed. The following information will also be published simultaneously in a newspaper of general circulation in the area of each installation. There will be additional Notices providing this same information about LRAs for other closing or realigning installations where surplus government property is available as those LRAs are recognized by the OEA.

EFFECTIVE DATE: September 19, 2006.

FOR FURTHER INFORMATION CONTACT: Director, Office of Economic Adjustment, Office of the Secretary of Defense, 400 Army Navy Drive, Suite 200, Arlington, VA 22202-4704, (703) 604-6020.

Local Redevelopment Authorities (LRAs) for Closing and Realigning Military Installations

Minnesota

Installation name: Navy Reserve Center.

LRA Name: Hermantown Economic Development Authority.

Point of Contact: Lynn Lander, City Administrator, City of Hermantown.

Address: 5255 Maple Grove Road, Hermantown, MN 55811.

Phone: (218) 729-3601.

Ohio

Installation Name: SSG Roy Clifton Scouten USARC.

LRA Name: Mansfield Local Redevelopment Authority.

Point of Contact: Tim Bowersock, Economic Development Director, City of Mansfield.

Address: 30 N. Diamond Street, Mansfield, OH 44902.

Phone: (419) 755-9794.

Pennsylvania

Installation Name: Lewisburg USARC.

LRA Name: Kelly Township Local Redevelopment Authority.

Point of Contact: David S. Hassenplug, Chairman, Kelly Township Supervisors.

Address: 551 Zeigler Road, Lewisburg, PA 17837.

Phone: (570) 524-0437.

Washington

Installation Name: PFC Joe E. Mann USARC/AMSA 80.

LRA Name: City of Spokane.

Point of Contact: Michael H. Adolfae, Director, Community Development Department, City of Spokane.

Address: 808 W. Spokane Falls Blvd., Spokane, WA 99201-3335.

Phone: (509) 625-6325.

Wisconsin

Installation Name: General Mitchell Air Reserve Station.

LRA Name: Milwaukee 440th Local Redevelopment Authority.

Point of Contact: David Misky, Redevelopment Authority of Milwaukee.

Address: 809 N. Broadway, 2nd Floor, Milwaukee, WI 53202.

Phone: (414) 286-8682.

Dated: September 13, 2006.
L.M. Bynum,
OSD Federal Register Liaison Officer, Department of Defense.

[FR Doc. 06-7745 Filed 9-18-06; 8:45 am]

BILLING CODE 5001-06-M